DEPARTMENT OF COMMERCE

National Oceanic and Atmospheric Administration

[I.D. 050506B]

Gulf of Mexico Fishery Management Council; Public Meetings

AGENCY: National Marine Fisheries Service (NMFS), National Oceanic and Atmospheric Administration (NOAA), Commerce.

ACTION: Notice of Closed Session SEDAR Selection Committee Conference Call.

SUMMARY: The Gulf of Mexico Fishery Management Council (Council) will convene its Southeast Data, Assessment and Review (SEDAR) Selection Committee via Conference Call to select participants for SEDAR 12 for red grouper for recommendation to the Council.

DATES: The Conference Call will be held on Wednesday, May 31, 2006, from 11 a.m. EDT to 12 noon EDT.

ADDRESSES: The meeting will be held via closed session conference call.

Council address: Gulf of Mexico Fishery Management Council, 2203 North Lois Avenue, Suite 1100, Tampa, FL 33607.

FOR FURTHER INFORMATION CONTACT: Mr. Wayne Swingle, Executive Director, Gulf of Mexico Fishery Management Council; telephone: (813) 348-1630.

SUPPLEMENTARY INFORMATION: The Gulf of Mexico Fishery Management Council (Council) will convene its Southeast Data, Assessment and Review (SEDAR) Selection Committee in a closed session conference call on Wednesday, May 31, 2006 at 11 a.m. EDT. The purpose of the meeting is to select members for the SEDAR 12 series for Red Grouper for recommendation to the Council. The Committee recommendations will be presented to the Council at the June 5-9, 2006 Council meeting in Tampa, FL.

Special Accommodations

These meetings are physically accessible to people with disabilities. Requests for sign language interpretation or other auxiliary aids should be directed to Trish Kennedy at the Council (see ADDRESSES) at least 5 working days prior to the meeting.

Dated: May 9, 2006.
Tracey L. Thompson,
Acting Director, Office of Sustainable Fisheries, National Marine Fisheries Service.

[FR Doc. E6-7309 Filed 5-12-06; 8:45 am]

BILLING CODE 3510-22-S